DEPARTMENT OF JUSTICE

Antitrust Division

Notice Pursuant to the National Cooperative Research and Production Act of 1993—National Center for Manufacturing Sciences, Inc.

Notice is hereby given that, on February 15, 2007, pursuant to Section 6(a) of the National Cooperative Research and Production Act of 1993, 15 U.S.C. 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, America's Phenix, Inc., Washington, DC; American Foundry Society, Inc., Schaumburg, IL; DuPoint Fuel Cells Business Unit, E.I. du Pont de Nemours & Company, Wilmington, DE; Goodrich, Fuel & Utility Systems, Simmonds Precision Products Inc., Vergennes, VT; Imaginestics, LLC, West Lafayette, IN; Net-Inspect LLC, Bellevue, WA; Profile Composites Inc., Sidney, British Columbia, CANADA; REI Systems, Inc., Vienna, VA; Renaissance Services Inc., Springfield, OH; SCRA, Charleston, SC; SFC Smart Fuel Cell AG, Brunnthal-Nord, GERMANY; and VCAMM, Bemont, VIC, AUSTRALIA have been added as parties to this venture. Also, Advance Assembly Automation Division, Dayton, OH; Automatic Feed Co., Napoleon, OH; Bardons & Oliver, Inc., Solon, OH; Bertsche Engineering Corp., Buffalo Grove, IL; CGTech, Irvine, CA; Control Gaging Inc., Ann Arbor, MI; Detroit Tool and Engineering, Inc., Vernon Hills, IL; Drake Manufacturing Services, Inc., Warren, OH; Gehring L.P., Farmington Hills, MI; Global Shop Solutions, The Woodlands, TX; Nuvonyx, Inc., Bridgeton, MO; PIA Group, Inc., Cincinnati, OH; Positrol, Inc., Cincinnati, OH; Preco Industries, Inc., Lenexa, KS; Prima North America, Inc., Champlin, MN; Remmele Engineering, Inc., Big Lake, MN; Rimrock Automation, New Berlin, WI; Sunnen Products Company, St. Louis, MO; The Gleason Works, Rochester, NY; and Unist, Inc., Grand Rapids, MI have withdrawn as parties to this venture.

No other changes have been made in either the membership or planned activity of the group research project. Membership in this group research project remains open, and NCMS intends to file additional written notification disclosing all changes in membership.

On February 20, 1987, NCMS filed its original notification pursuant to Section 6(a) of the Act. The Department of Justice published a notice in the Federal Register pursuant to Section 6(b) of the Act on March 17, 1987 (52 FR 8375).

The last notification was filed with the Department of Justice on July 26, 2006. A notice was published in the Federal Register pursuant to Section 6(b) of the Act on August 16, 2006 (71 FR 47248).

Patricia A. Brink,
Deputy Director of Operations, Antitrust Division.

[FR Doc. 07-1198 Filed 3-14-07; 8:45 am]

BILLING CODE 4410-11-M